SECURITIES AND EXCHANGE COMMISSION

Self-Regulatory Organizations; Notice of Application of Equitable Resources, Inc. To Withdraw Its Common Stock, No Par Value, From Listing and Registration on the Philadelphia Stock Exchange, Inc. File No. 1-03551

May 4, 2005.

On April 4, 2005, Equitable Resources, Inc., a Pennsylvania corporation (“Issuer”), filed an application with the Securities and Exchange Commission (“Commission”), pursuant to Section 12(d) of the Securities Exchange Act of 1934 (“Act”),¹ and Rule 12d2-2(d) thereunder,² to withdraw its common stock, no par value (“Security”), from listing and registration on the Philadelphia Stock Exchange, Inc. (“Phlx” or “Exchange”).

¹ 15 U.S.C. 78l(d).

² 17 CFR 240.12d2-2(d).

The Board of Directors (“Board”) of the Issuer adopted resolutions on December 1, 2004 to withdraw the Security from listing on the Exchange. The Board stated that it is in the best interest of the Issuer to withdraw the Security from listing on Phlx for the following reasons: (i) The New York Stock Exchange, Inc. (“NYSE”) has effected 91% of the Issuer's total average trading volume since January 1, 2003 and is the Issuer's primary exchange; (ii) Phlx, which is primarily an options trading exchange, effects an insignificant number and amount of trades in the Security each day; (iii) Phlx does not list Issuer options and the Issuer is not included in Phlx's utility index; (iv) since the Sarbanes-Oxley Act of 2002, each exchange has adopted new, more stringent corporate governance rules, and NYSE recently adopted amendments to its 2003 corporate governance rules; (v) while Phlx patterned its corporate governance rules after NYSE, certain differences existed and with the NYSE amendment, additional differences now exist; (vi) the Issuer is committed to strong governance practices, but compliance with multiple standards has become time consuming and costly; and (vii) after due consideration, the Issuer has not identified any economic, investor relations, or legal benefit to being listed on Phlx.

The Issuer stated in its application that it has met the requirements of Phlx Rule 809 governing an issuer's voluntary withdrawal of a security from listing and registration by submitting the necessary documents to withdraw the Security from listing on Phlx. The Issuer's application relates solely to the withdrawal of the Security from listing on Phlx and from registration under Section 12(b) of the Act ³ and shall not affect its obligation to be registered under Section 12(g) of the Act.⁴

³ 15 U.S.C. 78l(b).

⁴ 15 U.S.C. 78l(g).

Any interested person may, on or before May 31, 2005, comment on the facts bearing upon whether the application has been made in accordance with the rules of Phlx, and what terms, if any, should be imposed by the Commission for the protection of investors. All comment letters may be submitted by either of the following methods:

Electronic Comments

• Use the Commission's Internet comment form (http://www.sec.gov/rules/delist.shtml); or

• Send an e-mail to rule-comments@sec.gov. Please include the File Number 1-03551 or;

Paper Comments

• Send paper comments in triplicate to Jonathan G. Katz, Secretary, Securities and Exchange Commission, 450 Fifth Street, NW., Washington, DC 20549-0609.

All submissions should refer to File Number 1-03551. This file number should be included on the subject line if e-mail is used. To help us process and review your comments more efficiently, please use only one method. The Commission will post all comments on the Commission's Internet Web site (http://www.sec.gov/rules/delist.shtml). Comments are also available for public inspection and copying in the Commission's Public Reference Room. All comments received will be posted without change; we do not edit personal identifying information from submissions. You should submit only information that you wish to make available publicly.

The Commission, based on the information submitted to it, will issue an order granting the application after the date mentioned above, unless the Commission determines to order a hearing on the matter.

⁵ 17 CFR 200.30-3(a)(1).

For the Commission, by the Division of Market Regulation, pursuant to delegated authority.⁵
Jonathan G. Katz,
Secretary.

[FR Doc. E5-2266 Filed 5-9-05; 8:45 am]

BILLING CODE 8010-01-P